DEPARTMENT OF HEALTH AND HUMAN SERVICES

Administration for Children and Families

Statement of Organization, Functions and Delegation of Authority

Notice is hereby given that I have redelegated to the Regional Program Managers, Office of Child Support Enforcement, the following authorities vested in me by the Assistant Secretary of Administration for Children and Families in the memoranda dated February 16, 2007.

(a) Authorities Delegated.

1. The authority to approve Title IV-D State plans and amendments.

2. Authority to certify and transmit State requests for full collection services by the Secretary of Treasury and State applications to use courts of the United States to enforce court orders.

(b) Limitations.

1. These redelegations shall be exercised under financial and administrative requirements applicable to all Administration for Children and Families authorities.

2. The authority to approve Title IV-D State plans and amendments requires review and clearance by legal counsel and consultation with Central Office, Office of Child Support Enforcement, except as provided in written guidelines issued by the Commissioner.

3. These authorities may not be redelegated.

(c) Effective Date.

This redelegation is effective on the date of signature.

(d) Effect on Existing Delegations.

This redelegation of authority supersedes all previous delegations from the Deputy Director/Commissioner, Office of Child Support Enforcement, on these subjects.

I hereby affirm and ratify any actions taken by any Regional Program Manager which, in effect, involved the exercise of these authorities prior to the effective date of this redelegation.

Dated: May 10, 2007.
Margot Bean,
Deputy Director/Commissioner, Office of Child Support Enforcement.

[FR Doc. E7-9671 Filed 5-18-07; 8:45 am]

BILLING CODE 4184-01-P